DEPARTMENT OF THE INTERIOR

Bureau of Land Management

[CA-660-00-7123-HA]

Restrictions on Use of Public Lands

AGENCY: Bureau of Land Management, Palm Springs-South Coast Field Office, Desert District, California, Department of the Interior.

ACTION: Notice-temporary closure of public lands to motorized vehicles.

SUMMARY: In compliance with title 43 Code of Federal Regulations (CFR), subpart 8341.2(a), notice is hereby given that the Bureau of Land Management (BLM) prohibits persons from operating motor vehicles on public lands within the Windy Point areas, Riverside County. The public lands hereby closed to motorized vehicles include all such lands within ¼ E Section 14, Section 22, Section 23, and W ½ / NE ¼ Section 24, Township 3S, Range 3E. This closure shall be in effect year-round from January 31, 2001 until completion of the Coachella Valley Multiple Species Habitat and Natural Communities Conservation Management Plan, which addresses all aspects of the habitat use, including any restrictions to motorized vehicles.

SUPPLEMENTARY INFORMATION: On September 25, 1980, the U.S. Department of the Interior Fish and Wildlife Service (USFWS) listed the Coachella Valley Fringe-toed Lizard (CVFTL), as “threatened” under the authority of the Endangered Species Act (ESA) of 1973, as amended. The State of California Fish and Game Commission designated the CVFTL as “endangered”. These listings were prompted by the USFWS, California Department of Fish and Game, and CVFTL biologists/researchers' concerns that the lizards' historical range was being rapidly reduced by agricultural and urban development, along with the presence of off-highway vehicles.

The CVFTL is specially adapted to live in an environment of wind blown (aeolian) sand. The lizard's body shape, such as wedge-shaped nose and fringed toes, allow it to run easily over the sand and into loose surface to evade predators or the heat of the desert surface. In addition, insects and some plant material in the blowsand ecosystem provide food for the CVFTL. As human population in the Coachella Valley grows, the protection of windblown sand dunes become increasingly important for CVFTL habitat and survival.

The CVMV was listed as endangered by the USFWS in October 1998 under the authority of the ESA of 1973, as amended. The CVMV has not been listed by the State of California under its Endangered Species Act.

The CVMV occurs primarily on areas of loose windblown sand in the Coachella Valley. It is an annual or short-lived perennial plant. The plant is highly ephemeral in nature with growth highly dependent on rainfall patterns. Much of the plant's original habitat has been lost to agricultural, residential, and business development. Remaining habitat is threatened by these impacts as well as by OHVs, exotic plant invasion and wind farms.

The CVFTL is intimately associated with its habitat, virtually any activity which disturbs or destroys habitat will almost certainly destroy individual lizards. A similar relationship exists for the CVMV and the Flat-Tailed Horned Lizard (FTHL). In addition, other rare animals, such as the Palm Springs pocket mouse, Coachella Valley/Palm Springs ground squirrel, Coachella Valley Jerusalem cricket and Coachella giant sand treader cricket, which have adapted to living in actively moving sand would also be protected if this closure were implemented.

It was determined by the BLM that the venue for addressing the management of OHVs in the Windy Point area is the CVMSHCP, which is currently in development.

Any person who fails to comply with this order may be subject to the penalties provided in 43 CFR 8360.0-7.

FOR ADDITIONAL INFORMATION CONTACT: Anna Atkinson, BLM, Palm Springs-South Coast Field Office, P.O. Box 1260, North Palm Springs, CA 92258, telephone 760-251-4824.

Gavin Wright, BLM, Palm Springs-South Coast Field Office, P.O. Box 1260, North Palm Springs, CA 92258, telephone 760-251-4855.

Dated: November 28, 2000.
James G. Kenna,
Field Manager.

[FR Doc. 00-33016 Filed 12-26-00; 8:45 am]

BILLING CODE 4310-40-U